DEPARTMENT OF TRANSPORTATION

Pipeline And Hazardous Materials Safety Administration

Office of Hazardous Materials Safety; Notice of Applications for Modification of Special Permit

AGENCY: Pipeline and Hazardous Materials Safety Administration (PHMSA), DOT.

ACTION: List of Applications for Modification of Special Permits.

SUMMARY: In accordance with the procedures governing the application for, and the processing of, special permits from the Department of Transportation's Hazardous Material Regulations (49 CFR part 107, Subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before April 5, 2012.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://regulations.gov.

This notice of receipt of applications for modification of special permit is published in accordance with Part 107 of the Federal hazardous materials transportation law (49 U.S.C. 5117(b); 49 CFR 1.53(b)).

Issued in Washington, DC on March 13, 2012.
Donald Burger,
Chief, General Approvals and Permits.

Modification Special Permits
Application No. | Applicant | Regulation(s) affected | Nature of special permit thereof
10232-M | ITW Sexton Decatur, AL | 49 CFR 173.304, 178.33(a) | To modify the special permit to authorize a higher burst pressure.
11458-M | Costco Wholesale Issaquah, WA | 49 CFR 172.203(a) and 173.156(b) | To modify the special permit to authorize transportation in commerce as a limited quantity in addition to ORM-D.
12207-M | EMD Chemicals, Inc., Cincinnati, OH | 49 CFR 171.1(a)(1); 172.200(a); 172.302(c) | To modify the special permit to transport cargo tank shipments of hazardous materials crossing public highway roads.
14298-M | Air Products and Chemicals, Inc., Allentown, PA | 49 CFR 180.209(a) and (b) | To modify the special permit to authorize an additional Division 2.1 hazardous material, to increase maximum acceptance flaw size used on UE requalification and other miscellaneous revisions.
15220-M | GasCon (Pty) Ltd., Cape Town, South Africa | 49 CFR 178.274(b) and 178.277(b)(1) | To modify the special permit to increase the water capacity from 17000 liters (4500 USWG) liters min; to 45000 liters (11888 USWG) max.
15427-M | The Gillette Company (Former Grantee: The Proctor & Gamble Company) Boston, MA | 49 CFR 173.306(a) (3)(v) | To modify the special permit to authorize the manufacture, marking, sale and use of certain aerosol containers subject to the hot water bath test.
15442-M | Linde Gas North America LLC., Murray Hill, NJ | 49 CFR 180.212(a) and 180.212(b)(2) | To modify the special permit originally issued on an emergency basis to authorize on-going use.
15531-M | National Aeronautics and Space Administration (NASA) Washington, DC | 49 CFR Section 173.302(a) | To modify the special permit originally issued on an emergency basis to authorize on-going use.

[FR Doc. 2012-6603 Filed 3-20-12; 8:45 am]

BILLING CODE M